NUCLEAR REGULATORY COMMISSION

[Docket No. 40-8905]

Notice of Availability of Environmental Assessment and Finding of No Significant Impact for License Amendment for Rio Algom Mining LLC, Ambrosia Lake, NM

AGENCY: Nuclear Regulatory Commission.

ACTION: Notice of availability.

FOR FURTHER INFORMATION CONTACT: Michael G. Raddatz, Project Manager, Fuel Cycle Facilities Branch, Division of Fuel Cycle Safety and Safeguards, Office of Nuclear Material Safety and Safeguards, U.S. Nuclear Regulatory Commission, Washington, DC, 20555. Telephone: (301) 415-6334; fax number: (301) 415-5955; e-mail: mgr@nrc.gov.

SUPPLEMENTARY INFORMATION:

I. Introduction

The Nuclear Regulatory Commission (NRC) proposes to issue a license amendment to Source Materials License No. SUA-1473 held by Rio Algom Mining LLC (the licensee), to approve a soil decommissioning plan for its uranium mill tailings site in Ambrosia Lake, New Mexico. The NRC has prepared an Environmental Assessment (EA) in support of this amendment in accordance with the requirements of 10 CFR part 51. Based on the EA, the NRC has concluded that a Finding of No Significant Impact (FONSI) is appropriate. The amendment will be issued following the publication of this Notice.

II. EA Summary

The licensee's plan addresses the methods and procedures to be implemented to ensure that soil remediation is performed in a manner that is protective of human health and the environment. The Uranium Mill Tailings Radiation Control Act, as amended, and regulations in Title 10 of the Code of Federal Regulations, 10 CFR part 40 require that material at uranium mill tailings sites be disposed of in a manner that protects human health and the environment. On February 15, 2000, May 30, 2001, and July 7, 2005, Rio Algom Mining, LLC requested that the NRC approve the proposed amendment. The licensee's request for the proposed change was previously noticed in the Federal Register on June 29, 2000, (65 FR 40144) with a notice of an opportunity to request a hearing and an opportunity to provide comments on the amendment and its environmental impacts.

The staff has prepared the EA in support of the proposed license amendment. The staff considered impacts that the licensee's Soil Decommissioning Plan (SDP) will have on ground water, surface water, socioeconomic conditions, threatened and endangered species, transportation, land use, public and occupational health, and historic and cultural resources.

The EA supports a FONSI because of the following: The Uranium Mill Tailings Radiation Control Act, as amended, and regulations in Title 10 of the Code of Federal Regulations, 10 CFR part 40 require that material at uranium mill tailings sites be disposed of in a manner that protects human health and the environment: The methods and procedures described in the SDP have been judged by staff to be acceptable because the plan addresses those methods and procedures to be implemented by the licensee to ensure that soil remediation is performed in a manner that is protective of human health and the environment. The actual decommissioning of the licensee's mill tailings site will utilize the SDP and as each area is remediated, it will be verified that it is in compliance with all regulatory requirements and the SDP.

III. Finding of No Significant Impact

On the basis of the EA, NRC has concluded that there are no significant environmental impacts from the proposed amendment and NRC staff has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are as follows:

Document | ADAMS accession No. | Date
NUREG-1748, “Environmental Review Guidance for Licensing Actions Associated With NMSS Programs—Final Report,” Nuclear Regulatory Commission, Washington, DC | ML031000403 | April 10, 2003.
NUREG-1620, Rev. 1, “Standard Review Plan for Review of a Reclamation Plan for Mill Tailings Sites Under Title II of the Uranium Mill Tailings Radiation Control Act of 1978,” Nuclear Regulatory Commission, Washington, DC | ML032250190 | June 30, 2003.
Rio Algom Mining LLC, 2004, “Soil Decommissioning Plan” | ML050400566 | January 19, 2005.
Rio Algom Mining LLC, 2005, “Response to Request for Additional Information for Soil Decommissioning Plan and the Closure Plan—Lined Evaporation Ponds for Ambrosia Lake Facility” | ML052060155 | June 15, 2005.
Rio Algom Mining LLC, 2005, “Response to Request for Additional Information Items 6, 9, and 13 for the Soil Decommissioning Plan and the Closure Plan—Lined Evaporation Ponds for Ambrosia Lake Facility” | ML052090175 | July 15, 2005.
Rio Algom Mining LLC, 2005, “Response to July 21, 2005 Request for Additional Information for the Soil Decommissioning Plan and the Closure Plan—Lined Evaporation Ponds for Ambrosia Lake Facility” | ML053000439 | September 26, 2005.
U.S. Fish and Wildlife Service. Letter to M. Raddatz | ML052910059 | October 31, 2005.
Data Recovery Plan For lA 82634 and lA 82635 at Rio Algom Mine, Near Ambrosia Lake, McKinley County, New Mexico | ML060670532 | December 31, 2005.
Final Environmental Assessment, Soil Decommissioning Plan for Rio Algom Mining LLC's Uranium Mill Tailings Site, Ambrosia Lake, McKinley County, New Mexico | ML061630291 | May 15, 2006.

If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O1 F21, One White Flint North, 11555 Rockville Pike, Rockville, MD 20852. The PDR reproduction contractor will copy documents for a fee.

Dated at Rockville, Maryland, this 27th day of June, 2006.
For the Nuclear Regulatory Commission.
Gary S. Janosko,
Chief, Fuel Cycle Facilities Branch, Division of Fuel Cycle Safety and Safeguards, Office of Nuclear Material Safety and Safeguards.

[FR Doc. E6-10349 Filed 6-30-06; 8:45 am]

BILLING CODE 7590-01-P